GENERAL SERVICES ADMINISTRATION

[Notice PBRB-2019-01; Docket No. GSA-GSA-2019-0012; Sequence No. 1]

Public Buildings Reform Board; Notice of Meeting

AGENCY: Public Buildings Reform Board.

ACTION: Notice of public meeting.

SUMMARY: As provided by the Federal Assets Sale and Transfer Act of 2016 (FASTA), the Public Buildings Reform Board (PBRB) is holding its first public meeting. At this meeting, the Board will hear from government and private sector representatives to gain their perspectives on implementation of FASTA and FASTA's opportunities and challenges.

DATES: The meeting is scheduled for Monday, June 17th, 2019, from 9:00 a.m. to 4:00 p.m. (Eastern Daylight Time).

ADDRESSES: General Services Administration (GSA), National Capital Region Headquarters Auditorium, 301 7th St. SW, Washington, DC 20407. The meeting is open to the public and the site is accessible to individuals with disabilities.

FOR FURTHER INFORMATION CONTACT: Interested participants can contact Ira Holmes, PBRB, by phone at 301-802-7274 or by email at iholmes@bdo.com.

SUPPLEMENTARY INFORMATION: Background: FASTA created the PBRB as an independent Board to identify opportunities for the Federal government to significantly reduce its inventory of civilian real property and thereby reduce costs. The Board is directed, within 6 months of its formation, to recommend to the Office of Management and Budget (OMB) the sale of not fewer than five properties not on the list of surplus or excess with a fair market value of not less than $500 million and not more than $750 million. In two subsequent rounds over a five-year period, the Board is responsible for making recommendations for other sales, consolidations, property disposals or redevelopment of up to $7.25 billion.

Meeting: The format for the meeting will be panel discussions with appropriate time allowed for Q&A. Each panel will be composed of invited representatives for that specific area. The three proposed panels are:

• Executive Branch—this panel will include representatives from the Federal Property Council and the GSA Public Buildings Service. The purpose will be to provide a prospective on background of the legislation (FASTA) and the current status of the database.

• Congressional panel—this panel will discuss background and importance of legislation.

• Former RTC officials panel—this panel will discuss the RTC's approach to the large number of properties and methods of increasing the valuation for sale.

Portions of the meeting will be held in Executive Session if the Board is considering issues involving classified or proprietary information.

Registration: To register for this meeting, please email Ira Holmes at iholmes@bdo.com. Those wishing to participate as panelists are invited to contact the PBRB by June 10th, 2019. The PBRB especially invites former officials from the Resolution Trust Corporation (RTC) to participate on the panel to provide their insight. Individuals wishing to attend who require special assistance should contact Ira Holmes at least 72 hours prior to the event.

Lois Mandell,
Federal Register Liaison, General Services Administration.

[FR Doc. 2019-11492 Filed 5-31-19; 8:45 am]

BILLING CODE 3412-RT-P